DEPARTMENT OF AGRICULTURE

Animal and Plant Health Inspection Service

[Docket No. 03-110-1]

Saltcedar; Availability of an Environmental Assessment

AGENCY: Animal and Plant Health Inspection Service, USDA.

ACTION: Notice of availability and request for comments.

SUMMARY: We are advising the public that the Animal and Plant Health Inspection Service has prepared a draft environmental assessment relative to the control of saltcedar (Tamarix spp.). The draft environmental assessment considers the effects of, and alternatives to, the release of a nonindigenous leaf beetle, Diorhabda elongata, into the environment to reduce the severity of saltcedar infestations in 14 western States. We are making the draft environmental assessment available to the public for review and comment.

DATES: We will consider all comments that we receive on or before January 20, 2004.

ADDRESSES: You may submit comments by postal mail/commercial delivery or by e-mail. If you use postal mail/commercial delivery, please send four copies of your comment (an original and three copies) to: Docket No. 03-110-1, Regulatory Analysis and Development, PPD, APHIS, Station 3C71, 4700 River Road Unit 118, Riverdale, MD 20737-1238. Please state that your comment refers to Docket No. 03-110-1. If you use e-mail, address your comment to regulations@aphis.usda.gov. Your comment must be contained in the body of your message; do not send attached files. Please include your name and address in your message and “Docket No. 03-110-1” on the subject line.

You may read any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Robert Richard, Western Region Program Manager, PPQ, APHIS, 2150 Centre Avenue Building B, Fort Collins, CO 80526-8117; (970) 494-7565.

SUPPLEMENTARY INFORMATION:

Background

Saltcedar (Tamarix spp.), also known as tamarisk, is a dense, deciduous shrub or small tree, indigenous to Asia, with the potential to significantly affect native vegetation throughout much of the United States. Saltcedars have long tap roots that allow them to access deep water tables and interfere with natural aquatic systems. The saltcedar is an aggressive colonizer, disrupting native plant communities and degrading native wildlife habitat by replacing native plant species, monopolizing limited water sources, and increasing the frequency, intensity and effect of fires and floods.

A single mature saltcedar may produce hundreds of thousands of seeds between April and October. The seeds are then dispersed by wind and water throughout the growing season, germinating within 24 hours of moistening. Seedlings are tolerant of water, saline soils, and drought and may grow by as much as a foot a month.

Saltcedar was first introduced into the United States from Asia in the early 1800s. The plant has been used for windbreaks, as ornamentals, and for erosion control. By 1850, saltcedar had infested river systems and drainages in the southwest. By 1938, infestations were found from Florida to California and as far north as Idaho. Saltcedar continues to spread rapidly and currently infests water drainages and areas throughout the United States, including the following western States: Colorado, North Dakota, South Dakota, Iowa, Nebraska, Nevada, Kansas, Missouri, Montana, Idaho, Oregon, Washington, Utah, and Wyoming.

As a result of rising infestation levels, the Animal and Plant Health Inspection Service has prepared a draft environmental assessment (EA) relative to the environmental release of the nonindigenous saltcedar leaf beetle (Diorhabda elongata) into the 14 western States listed above in order to reduce the severity and extent of saltcedar infestation in those areas.

The saltcedar leaf beetle is native to the Mediterranean region and central and middle Asia. All stages of saltcedar leaf beetle larvae feed on saltcedar foliage. As adults, the beetles continue to feed on saltcedar foliage. Saltcedar leaf beetles have been known to completely defoliate large areas of saltcedar. Release of this insect into the environment is expected to produce a gradual reduction in the size of saltcedar plants and in foliage cover and density of saltcedar stands.

APHIS' review and analysis of the proposed action and its alternatives are documented in detail in a draft EA entitled, “Proposed Program for Control of Saltcedar (Tamarix spp.) in Fourteen States” (November 2003). We are making the draft EA available to the public for review and comment. We will consider all comments that we receive on or before the date listed under the heading DATES at the beginning of this notice.

The draft EA may be viewed on the Internet at http://www.aphis.usda.gov/ppd/es/ppqdocs.html. You may request paper copies of the draft EA by calling or writing to the person listed under FOR FURTHER INFORMATION CONTACT. Please refer to the title of the draft EA when requesting copies. The draft EA is also available for review in our reading room (information on the location and hours of the reading room is listed under the heading ADDRESSES at the beginning of this notice).

The draft EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS” NEPA Implementing Procedures (7 CFR part 372).

Done in Washington, DC, this 15th day of December 2003.
Kevin Shea,
Acting Administrator, Animal and Plant Health Inspection Service.

[FR Doc. 03-31311 Filed 12-18-03; 8:45 am]

BILLING CODE 3410-34-P